INTERNATIONAL TRADE COMMISSION

[Investigation No. 337-TA-1307]

Certain Barcode Scanners, Mobile Computers With Barcode Scanning Capabilities, Scan Engines, Components Thereof, and Products Containing the Same; Notice of a Commission Determination Not To Review an Initial Determination Terminating the Investigation Based on a Settlement; Termination of the Investigation

AGENCY: U.S. International Trade Commission.

ACTION: Notice.

SUMMARY: Notice is hereby given that the U.S. International Trade Commission (“Commission”) has determined not to review an initial determination (“ID”) (Order No. 12) of the presiding administrative law judge (“ALJ”), terminating the investigation based on a settlement agreement.

FOR FURTHER INFORMATION CONTACT: Ronald A. Traud, Esq., Office of the General Counsel, U.S. International Trade Commission, 500 E Street SW, Washington, DC 20436, telephone (202) 205-3427. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on March 15, 2022, based on a complaint filed on behalf of Zebra Technologies Corporation of Lincolnshire, Illinois, and Symbol Technologies, LLC of Holtsville, New York (together, “Complainants”). 87 FR 14571 (March 15, 2022). The complaint alleged a violation of section 337 of the Tariff Act of 1930, as amended, 19 U.S.C. 1337, based upon the importation into the United States, the sale for importation, and the sale within the United States after importation of certain barcode scanners, mobile computers with barcode scanning capabilities, scan engines, components thereof, and products containing the same by reason of the infringement of certain claims of U.S. Patent Nos. 7,478,753, 7,905,414, 9,800,749, and 10,732,380. Id. The complaint further alleged that an industry in the United States exists as required by section 337. Id. The Commission's notice of investigation named as respondents Honeywell International Inc. of Charlotte, North Carolina, and Hand Held Products, Inc. of Charlotte, North Carolina (together, “Respondents”). Id. The Office of Unfair Import Investigations was not named as a party in this investigation. Id.

On July 11, 2022, pursuant to Commission Rule 210.21(b) (19 CFR 210.21(b)), Complainants and Respondents filed a joint motion to terminate this investigation in its entirety based on a settlement agreement. On July 18, 2022, the ALJ issued Order No. 12, the subject ID, which granted the motion. The ID found that the motion complied with the Commission's Rules and that terminating the investigation would not be contrary to the public interest. No petitions for review of the ID were filed.

The Commission has determined not to review the subject ID.

This investigation is hereby terminated in its entirety.

The Commission vote for this determination took place on August 5, 2022.

The authority for the Commission's determination is contained in section 337 of the Tariff Act of 1930, as amended (19 U.S.C. 1337), and in part 210 of the Commission's Rules of Practice and Procedure (19 CFR part 210).

By order of the Commission.
Issued: August 8, 2022.
Katherine Hiner,
Acting Secretary to the Commission.

[FR Doc. 2022-17273 Filed 8-10-22; 8:45 am]

BILLING CODE 7020-02-P